DEPARTMENT OF COMMERCE

National Oceanic and Atmospheric Administration

50 CFR Part 300

RIN 0648-BC44

[Docket No. 120814337-2337-01]

International Fisheries; Pacific Tuna Fisheries; Fishing Restrictions in the Eastern Pacific Ocean

AGENCY: National Marine Fisheries Service (NMFS), National Oceanic and Atmospheric Administration (NOAA), Commerce.

ACTION: Proposed rule; request for comments.

SUMMARY: NMFS proposes regulations under the Tuna Conventions Act to implement Resolution C-12-09 of the Inter-American Tropical Tuna Commission (IATTC) by establishing limits on commercial retention of bluefin tuna by U.S. fishing vessels operating in the Eastern Pacific Ocean in 2012 and 2013. This action is necessary for the United States to satisfy its obligations as a member of the IATTC and to reduce overfishing of the stock.

DATES: Comments must be submitted in writing by January 11, 2013. A public hearing will be held at 1 p.m. to 4 p.m. PDT, January 11, 2013, in Long Beach, CA.

ADDRESSES: You may submit comments on this document, identified by NOAA-NMFS-2012-0172, by any of the following methods:

• Electronic Submissions: Submit all electronic public comments via the Federal eRulemaking Portal: http://www.regulations.gov. To submit comments via the e-Rulemaking Portal, first click the “submit a comment” icon, then enter NOAA-NMFS-2012-0172 in the keyword search. Locate the document you wish to comment on from the resulting list and click on the “Submit a Comment” icon on the right of that line.

• Mail: Submit written comments to Heidi Taylor, NMFS Southwest Regional Office, 501 W. Ocean Blvd., Suite 4200, Long Beach, CA 90802. Include the identifier “NOAA-NMFS-2012-0172” in the comments.

• Fax: 562-980-4047; Attn: Heidi Taylor.

• Public hearing: The public is welcome to attend a public hearing and offer comments on this rule on January 11, 2013 from 1 p.m. 4 p.m. at 501 W. Ocean Boulevard, Suite 4200, Long Beach, CA 90802. The public may also participate in the public hearing via conference line: 1-888-760-6181; participant passcode: #7600181.

Instructions: Comments must be submitted by one of the above methods to ensure they are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will only be accepted in Microsoft Word or Excel, WordPerfect, or Adobe PDF file formats.

Written comments regarding the burden-hour estimates or other aspects of the collection-of-information requirements contained in this proposed rule may be submitted to NMFS SWR and by email to OIRA_Submission@omb.eop.gov, or faxed to (202) 395-7285. Copies of the draft Regulatory Impact Review (RIR) and other supporting documents are available at http://swr.nmfs.noaa.gov/.

FOR FURTHER INFORMATION CONTACT: Heidi Taylor, NMFS SWR, 562-980-4039.

SUPPLEMENTARY INFORMATION:

Background on the IATTC

The United States is a member of the IATTC, which was established under the 1949 Convention for the Establishment of an Inter-American Tropical Tuna Commission. The full text of the 1949 Convention is available at: http://www.iattc.org/PDFFiles/IATTC_convention_1949.pdf. The IATTC was established to provide an international arrangement to ensure the effective international conservation and management of highly migratory species of fish in the Convention Area (defined as the waters of the eastern Pacific Ocean (EPO)). Since 1998, conservation resolutions implemented within the IATTC have further defined the Convention Area as the area bounded by the coast of the Americas, the 50° N. and 50° S. parallels, and the 150° W. meridian. The IATTC has maintained a scientific research and fishery monitoring program for many years, and regularly assesses the status of tuna and billfish stocks in the EPO to determine appropriate harvest limits or other measures to prevent overexploitation of these stocks and to promote viable fisheries. Current IATTC membership includes: Belize, Canada, China, Chinese Taipei (Taiwan), Colombia, Costa Rica, Ecuador, El Salvador, the European Union, France, Guatemala, Japan, Kiribati, the Republic of Korea, Mexico, Nicaragua, Panama, Peru, the United States, Vanuatu, and Venezuela. Bolivia and the Cook Islands are cooperating non-members.

International Obligations of the United States Under the Convention

As a Contracting Party to the 1949 Convention and a member of the IATTC, the United States is legally bound to implement the decisions of the IATTC. The Tuna Conventions Act (16 U.S.C. 951-962) directs the Secretary of Commerce, after approval by the Secretary of State, to promulgate such regulations as may be necessary to implement recommendations adopted by the IATTC. The authority to promulgate such regulations has been delegated to NMFS.

IATTC Decisions in 2012

At its 83rd Meeting, in June 2012, the IATTC adopted by consensus Resolution C-12-09, Conservation and Management Measures for Bluefin Tuna in the EPO. All active resolutions and recommendations of the IATTC are available on the following Web site: http://iattc.org/ResolutionsActiveENG.htm.

The main objective of Resolution C-12-09 is to conserve Pacific bluefin tuna (Thunnus orientalis) by establishing limits on the commercial catches of in the EPO. Before Resolution C-12-09, the IATTC had not adopted harvest limits for Pacific bluefin tuna in the EPO. In particular, the IATTC recognizes the need to reduce the mortality of juvenile Pacific bluefin tuna. The IATTC emphasizes that the measures in Resolution C-12-09 are intended as an interim means for assuring viability of the Pacific bluefin tuna resource. Future conservation measures should be based in part on development of future scientific information and advice of the International Scientific Committee for Tuna and Tuna-like Species in the North Pacific Ocean and the IATTC scientific staff. Table 1 below shows the United States commercial catch of Pacific bluefin tuna for the years 1999 to 2009 in the EPO. At this time, landings in 2010 cannot be reported due to data confidentiality.

Table 1—United States Commercial Catch of Pacific Bluefin Tuna in the EPO
[In metric tons]
Year | Pacific bluefin tuna catch (in metric tons)
1999 | 186
2000 | 313
2001 | 196
2002 | 11
2003 | 36
2004 | 10
2005 | 207
2006 | 1
2007 | 45
2008 | 1
2009 | 415
2010 |
Source: PacFIN, extracted Aug. 16, 2011.

In 2010, the Western and Central Pacific Fisheries Commission (WCPFC) adopted conservation and management measures for Pacific bluefin tuna to ensure that the current level of fishing mortality rate is not increased. Resolution C-12-09 complements action taken by WCPFC in 2010 that set effort quotas in the western central Pacific Ocean. The combination of Resolution C-12-09 and the WCPFC effort quotas are an important step for reducing the overfishing of bluefin tuna. In 2011, NMFS determined overfishing is occurring on Pacific bluefin tuna based on stock assessment results of the International Scientific Committee (76 FR 28422 (May 17, 2011)). NMFS recommended that domestic and international actions should be developed to end overfishing and rebuild the affected stock.

Proposed Action

NMFS is proposing to implement domestically Resolution C-12-09, which provides for the conservation and management of Pacific bluefin tuna in the EPO through the following methods: retention of bluefin tuna by all United States commercial fishing vessels in the EPO shall be prohibited (i) for the remainder of 2012 when 500 metric tons has been harvested by the United States commercial fishing vessels, and (ii) for the remainder of 2013 when 10,000 metric tons has been harvested by the commercial fishing vessels of all countries in 2012 and 2013 combined. The 2013 prohibition will not be effective unless and until the annual commercial harvest of Pacific bluefin tuna by the United States fleet has reached 500 metric tons.

To clarify, the United States commercial fishery may catch more than the 500 metric tons in 2013, provided the 10,000 (2012 and 2013 combined) metric ton limit by the international fleet is not reached. However, if the 10,000 metric ton limit is reached, then the United States commercial fishery may catch up to a total of 500 metric tons of Pacific bluefin tuna.

Announcement of the Limit Being Reached

To help ensure that the total catch of Pacific bluefin tuna in the EPO does not exceed the catch limit for each year, NMFS will report United States catch to the IATTC Director on a monthly basis. The IATTC Director, in turn will communicate on a regular basis the current catch levels and will inform the members of the IATTC when the total annual catch limit is reached. If NMFS determines, based on the information provided by the IATTC Director, that the applicable limit is imminent by a specific future date in that year, NMFS will publish a notice in the Federal Register announcing that specific restrictions will be effective on that specific future date until the end of the calendar year. Additionally, if the United States commercial fishing fleet has already caught 500 metric tons or more of Pacific bluefin tuna in 2012 or 2013 and the overall catch limit is reached, NMFS will publish a notice in the Federal Register announcing that restrictions will be effective immediately through the end of the calendar year. Under the authority of the Tuna Convention Act, fishery management resolutions made by the IATTC and approved by the Department of State will be promulgated in the Federal Register. This includes necessary additional notifications to inform the public on an action that may impact the United States commercial fishing fleet. Specifically, 50 CFR 300.20, which implements the Tuna Convention Act, states the following:

“The regulations in this subpart are issued under the authority of the Tuna Conventions Act of 1950 (Act). The regulations implement recommendations of the Inter-American Tropical Tuna Commission (IATTC) for the conservation and management of highly migratory fish resources in the Eastern Tropical Pacific Ocean so far as they affect vessels and persons subject to the jurisdiction of the United States.”

NMFS will also endeavor to make publicly available, such as on a Web site, regularly updated estimates and/or forecasts of Pacific bluefin tuna catches in order to help fishermen plan for the possibility of the limit being reached.

The commercial catch limitation would go into effect in 2012, and remain in effect through 2013 unless the IATTC decides to remove or modify the measure in 2013. NMFS expects controls on fishing for Pacific bluefin tuna in the ETP to be included by the IATTC in future resolutions.

Classification

The NMFS Assistant Administrator has determined that this proposed rule is consistent with the Tuna Conventions Act of 1950 and other applicable laws, subject to further consideration after public comment.

This proposed rule has been determined to be not significant for purposes of Executive Order 12866.

An initial regulatory flexibility analysis (IRFA) was prepared, as required by section 603 of the (RFA), 5 U.S.C. section 601 note. The IRFA describes the economic impact this proposed rule, if adopted, would have on small entities. A description of the action, why it is being considered, and the legal basis for this action are contained at the beginning of this section in the preamble and in the SUMMARY section of the preamble. A summary of the analysis follows. A copy of this analysis is available from NMFS (see ADDRESSES).

The proposed rule would apply to owners and operators of United States commercial fishing vessels that catch Pacific bluefin tuna in the IATTC Convention Area. It is important to note that no United States commercial vessels specialize in harvesting bluefin tuna in the EPO. Bluefin tuna is caught commercially, on an irregular basis; by small coastal purse seine vessels operating in the Southern California Bight with limited additional landings by the drift gillnet fleet that targets swordfish and thresher shark. The Pacific bluefin commercial catch limitations are not expected to result in a closure of the United States fishery because catches from recent years have not reached the 500 metric tons. The last year the United States exceeded 500 metric tons was 1998. Refer to Table 1 (found above) for United States commercial catch of bluefin in the EPO for years 1999 to 2010.

The United States West Coast catch of bluefin tuna represents a relatively minor component of the overall EPO tuna catch. The number of purse seine vessels that have landed tuna in California averaged 197 annually between 1981-90, but declined to an annual average of 11 in the 2001-2010 period. The decline in the number of domestic vessels is correlated in part with the relocation of large cannery operations. Currently there are no canneries functioning as primary offloaders of tuna in California.

As part of the IRFA, the proposed rule impacts to small entities in the IATTC Convention Area were analyzed. The United States West Coast vessels (all gear types) operating in the EPO averaged annual landings of 113 metric tons of PBF during 2000-2011. The annual average catch of PBF had an ex-vessel value of $175,892 (unadjusted for inflation) during 2000-2011. About 66 percent of this value was attributed to small coastal pelagic purse seiners that opportunistically target bluefin tuna in EPO, thus any bluefin tuna conservation measures primarily affect these vessels. Small purse seiners averaged 98 metric tons of bluefin tuna landings per year, with a range from zero to 411 metric tons per year during 2000-2011. There were up to six small purse seiners opportunistically targeting bluefin tuna in any one year during 2000-2011. Bluefin tuna is also incidentally caught and landed by large mesh drift gillnet vessels in small quantity. The landings of bluefin tuna by longline and albacore surface hook-and-line vessels operating in EPO have been negligible in recent years.

For the vessels (all gear types) that caught bluefin tuna, the share of revenue from bluefin tuna relative to the revenues from all species ranged from 0.11 percent to 6.96 percent during 2000-2011. The share of revenue from bluefin tuna averaged 2.42 percent relative to the revenue from the portfolio of all species for the vessels that landed bluefin tuna during 2000-2011. Given the number of active vessels during that period (average 45 boats per year of all gear types), annual revenue per boat from the bluefin tuna averaged $3,866.

The described bluefin tuna catch limit for the United States in the IATTC Convention Area will remain in force for 2012 and 2013. Approximately two small purse seiners per year on average have the potential to be affected by this proposed rule when adopted. All fisheries, whether they opportunistically target bluefin tuna or catch it incidentally, would be able to fish in the normal manner without any material changes in operations or associated revenues. The proposed rule is not expected to result in any change in fishing operations or any significant reduction in associated revenues. The economic effect of bluefin tuna catch limitation to the United States commercial fleet and small entities from the IATTC Convention Area in EPO will not be significant.

NMFS compared the effects of the bluefin tuna provisions proposed in this rule to one alternative, which is a no action alternative. Under this alternative, there would be no changes to current regulations to limit United States commercial catches of bluefin tuna in the IATTC Convention Area as stipulated in Resolution C-12-09. Under this alternative, there would be no effects to vessel owners compared to the status quo. Based on recent bluefin tuna catch data and expected future trends, it is unlikely that there would be any benefit from not implementing the bluefin tuna provisions; however, the United States would not be implementing Resolution C-12-09 and would therefore not be satisfying its international obligations as a member of the IATTC.

List of Subjects in 50 CFR Part 300

Administrative practice and procedure, Fish, Fisheries, Fishing, Marine resources, Reporting and recordkeeping requirements, Treaties.

Dated: December 6, 2012.
Samuel D. Rauch III,
Deputy Assistant Administrator for Regulatory Programs, performing the functions and duties of the Assistant Administrator for Fisheries, National Marine Fisheries Service.

For the reasons set out in the preamble, 50 CFR part 300 is proposed to be amended as follows:

PART 300—INTERNATIONAL FISHERIES REGULATIONS

1. The authority citation for 50 CFR part 300, continues to read as follows:

Authority: 16 U.S.C. 1801 et seq., 16 U.S.C. 5501 et seq., 16 U.S.C. 2431 et seq., 31 U.S.C. 9701 et seq.

2. In § 300.24, a new paragraph (u) is added to read as follows:

§ 300.24 Prohibitions.

* * * * *

(u) Target or retain Pacific bluefin tuna in the IATTC Convention Area by any United States vessel engaged in commercial fishing after the date specified by the Regional Administrator's notification of closure issued under § 300.25 (h).

3. In § 300.25, a new paragraph (h) is added to read as follows:

§ 300.25 Eastern Pacific fisheries management.

* * * * *

(h) Bluefin tuna commercial catch limits in the eastern Pacific Ocean.

(1) After the date specified in a notice published by Regional Administrator in the Federal Register, a United States vessel engaged in commercial fishing may not target or retain Bluefin tuna in the Convention Area for the remainder of the calendar year. NMFS will publish such a notice prohibiting further targeting and retention of bluefin tuna on the projected date

(i) for the remainder of 2012 when the United States commercial vessels in the Convention Area has already met or exceeded 500 metric tons, or

(ii) for the remainder of 2013 when 10,000 metric tons or more have been harvested by the commercial fishing vessels of all countries in 2012 and 2013 combined. The 2013 prohibition will not be effective unless and until the annual commercial harvest of Pacific bluefin tuna by the United States fleet has reached 500 metric tons.

(2) [Reserved]

[FR Doc. 2012-29968 Filed 12-11-12; 8:45 am]

BILLING CODE 3510-22-P